ENVIRONMENTAL PROTECTION AGENCY

[EPA-HQ-ORD-2006-0310; FRL-8160-9]

Human Studies Review Board; Notice of Public Meeting; Correction of Docket Number

AGENCY: Environmental Protection Agency.

ACTION: Notice; correction.

SUMMARY: On April 17, 2006, the U.S. Environmental Protection Agency's (EPA or Agency) Office of the Science Advisor (OSA) announced a public meeting of the Human Studies Review Board (HSRB) to be held May 2-4, 2006 from 8:30 a.m. to approximately 5 p.m., eastern time. However, the third day may not be needed. Please be advised the docket number for that notice was incorrect.

DATES: Effective on April 21, 2006.

FOR FURTHER INFORMATION CONTACT: Paul I. Lewis, Designated Federal Officer (DFO), EPA, Office of the Science Advisor, (8105), Environmental Protection Agency, 1200 Pennsylvania Ave., NW., Washington, DC 20460; telephone number: (202) 564-8381; fax: (202) 564 2070; e-mail address: lewis.paul@epa.gov.

Correction

In the Federal Register of April 17, 2006, in FR Doc.06-3635, on page 19725 (3rd column) and page 19726 (2nd column), correct the entries for docket ID number to read docket ID number EPA-HQ-ORD-2006-0310.

Dated: April 18, 2006.
William H. Farland,
Acting Deputy Assistant Administrator for Science, EPA Office of Research & Development, EPA Science Advisor.

[FR Doc. E6-6005 Filed 4-20-06; 8:45 am]

BILLING CODE 6560-50-P